DEPARTMENT OF HEALTH AND HUMAN SERVICES

Administration for Children and Families

Office of Community Services; Program Enhance Supplement

AGENCY: Office of Community Services, Administration for Children and Families, Department of Health and Human Services.

ACTION: Publication of notice to the public that the Office of Community Services plans to deviate from the full and open competitive grant process in order to facilitate the award of funds under the Community Services Block Grant Discretionary Program.

SUMMARY: The Administration for Children and Families (ACF), Office of Community Services (OCS), announces that it plans to award a grant under the Community Services Block Grant Discretionary Program to develop, replicate and disseminate an educational tool to be utilized by community development corporations on a national level. This grant will be awarded to National Congress for Community Economic Development.

ADDRESSES:

Name and Address of Grants Officer: Mary Nash, Grants Officer, Administration for Children and Families, Office of Child Support Enforcement—4th Floor, 370 L'Enfant Promenade SW., Washington DC 20447, Telephone: (202) 260-7143

Name and Address of Program Official: Thelma Woodland, Branch Chief, Division of Community Discretionary Programs, Administration for Children and Families, Office of Community Services—5th Floor, 370 L'Enfant Promenade SW, Washington DC 20447, Telephone: (202) 401-5294

Statutory Authority: The community Services Block Grant Act of 1981, as amended, (Section 680 of the community Opportunities, Accountability, and Training and Educational Services (COATS) Act of 1998, authorizes the Secretary to make grants to provide technical and financial assistance for economic development activities designed to address the economic needs of low-income individuals and families, conduct rural community development activities and conduct neighborhood innovation projects.

The Catalog of Federal Domestic Assistance Number is 93.570.

Award Mechanism: Deviation from the competitive process to award a supplement under the Training and Technical Assistance Set-Aside of the Urban and Rural Community Economic Development and Rural Community Facilities Development Program.

Name of Proposed Grantee: National Congress for Community Economic Development.

Estimated Amount of Award and Proposed Period of Support: The proposed amount of the award is $110,000. The proposed period of support will be from 8/1/2000 to 12/31/2001.

Scope and Nature of Project: The funds will be used to expand the scope of work and augment 2000 Year funding to develop, replicate and disseminate an educational tool (a video and accompanying publications) to be utilized by community development corporations on a national level.

Reasons for Less Than Maximum Competition: The National Congress for Community Economic Development (NCCED) has received grants from OCS for the past 5 years. Their most recent grant, funded in 2000, is to help community development corporations (CDCs) access new resources and strengthen their network. NCCED provides training and technical assistance in the areas of resource development, commercial development and building corporate partnerships. NCCED proposes to celebrate the evolution and accomplishments of the field of economic development at its national conference scheduled for mid-October of this year. OCS plans to provide funding for a video with an accompanying booklet and separate historical retrospective publications to be used at this conference. Because of time constraints, it is not feasible to seek open and free competition for this award. In addition, the proposed grantee has exemplified high-quality work in the past and there is no other potential grantee that has the capacity to perform the work desired. NCCED has been a leader in assisting OCS in meeting the needs of CDCs in creating employment and business opportunities for low-income families. The video and other products, once developed, will be an important tool in the delivery of technical assistance to CDCs and in helping to ensure that the economic needs of low income individuals and families of the 21″ century are met through the creation of employment and business opportunities.

Dated: September 5, 2000.
Thornell Page,
Acting Director, Office of Community Services.

[FR Doc. 00-23114 Filed 9-7-00; 8:45 am]

BILLING CODE 4184-01-M